DEPARTMENT OF EDUCATION

Extension of the Application Deadline Date; Applications for New Awards; Jacob K. Javits Gifted and Talented Students Education Program

AGENCY: Office of Elementary and Secondary Education, Department of Education.

ACTION: Notice.

SUMMARY: On February 16, 2022, the Department of Education (Department) published in the Federal Register a notice inviting applications for the fiscal year (FY) 2022 Jacob K. Javits Gifted and Talented Students Education Program (NIA), Assistance Listing Number (ALN) 84.206A. The NIA established a deadline date of April 4, 2022, for the transmittal of applications. This notice extends the deadline date for transmittal of applications until April 11, 2022 and extends the deadline for intergovernmental review until June 10, 2022.

DATES:

Deadline for Transmittal of Applications: April 11, 2022.

Deadline for Intergovernmental Review: June 10, 2022.

FOR FURTHER INFORMATION CONTACT: M. Jeanette Horner-Smith, U.S. Department of Education, 400 Maryland Avenue SW, Room 3E252, Washington, DC 20202-6450. Telephone: (202) 453-6661. Email: Mildred.Horner-Smith@ed.gov. Or Jennifer Brianas, U.S. Department of Education, 400 Maryland Avenue SW, Room 3E239, Washington, DC 20202-6450. Telephone: (202) 401-0299. Email: Jennifer.Brianas@ed.gov.

If you use a telecommunications device for the deaf (TDD) or a text telephone (TTY), call the Federal Relay Service (FRS), toll free, at 1-800-877-8339.

SUPPLEMENTARY INFORMATION: On February 16, 2022, we published the NIA in the Federal Register (87 FR 8812). The NIA established a deadline date of April 4, 2022, for the transmittal of applications. This notice extends the deadline date for transmittal of applications until April 11, 2022, as well as the deadline for intergovernmental review.

We are extending the deadline date for transmittal of applications to allow applicants more time to prepare and submit their applications. On April 4, 2022, the Department is transitioning from use of the Data Universal Numbering System (DUNS) to the Unique Entity Identifier (UEI). To avoid any conflicts with submitting applications during the transition period, we are extending the deadline date for transmittal of applications. Applicants that have submitted applications on or before the original deadline date of April 4, 2022, may resubmit their applications on or before the new application deadline date of April 11, 2022, but are not required to do so. If a new application is not submitted, the Department will use the application that was submitted by the original deadline. If a new application is submitted, the Department will consider the application that was last successfully submitted and received by 11:59:59 p.m., Eastern Time, on April 11, 2022.

Note: All information in the NIA for this competition remains the same, except for the deadline for the transmittal of applications and the deadline for intergovernmental review.

Program Authority: Section 4644 of the ESEA (20 U.S.C. 7294).

Accessible Format: On request to the program contact persons listed under FOR FURTHER INFORMATION CONTACT, individuals with disabilities can obtain this document, the NIA, and a copy of the application package in an accessible format. The Department will provide the requestor with an accessible format that may include Rich Text Format (RTF) or text format (TXT), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs Office of Elementary and Secondary Education.

[FR Doc. 2022-05537 Filed 3-15-22; 8:45 am]

BILLING CODE 4000-01-P